DEPARTMENT OF ENERGY

Federal Energy Regulatory Commission

Combined Notice of Filings #2

Take notice that the Commission received the following electric rate filings:

Docket Numbers: ER16-1788-001.

Applicants: LE Energy, LLC.

Description: Amendment to June 7, 2016 LE Energy, LLC tariff filing.

Filed Date: 6/10/16.

Accession Number: 20160610-5191.

Comments Due: 5 p.m. ET 7/1/16.

Docket Numbers: ER16-1908-000.

Applicants: International Transmission Company.

Description: § 205(d) Rate Filing: Cancellation of Facilities Agreement in Compliance with Docket No. ER12-1757 to be effective 3/25/2016.

Filed Date: 6/10/16.

Accession Number: 20160610-5254.

Comments Due: 5 p.m. ET 7/1/16.

Docket Numbers: ER16-1909-000.

Applicants: International Transmission Company.

Description: § 205(d) Rate Filing: Cancellation of Operating Agreement in Compliance with Docket No. ER12-1765 to be effective 3/25/2016.

Filed Date: 6/10/16.

Accession Number: 20160610-5257.

Comments Due: 5 p.m. ET 7/1/16.

Docket Numbers: ER16-1910-000.

Applicants: Michigan Electric Transmission Company, LLC.

Description: § 205(d) Rate Filing: Cancellation of Concurrence to Operating Agreement to be effective 3/25/2016.

Filed Date: 6/10/16.

Accession Number: 20160610-5267.

Comments Due: 5 p.m. ET 7/1/16.

Docket Numbers: ER16-1911-000.

Applicants: Michigan Electric Transmission Company, LLC.

Description: § 205(d) Rate Filing: Cancellation of Concurrence to Facilities Agreement to be effective 3/25/2016.

Filed Date: 6/10/16.

Accession Number: 20160610-5268.

Comments Due: 5 p.m. ET 7/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2016.
Nathaniel J. Davis, Sr.,
Deputy Secretary.

[FR Doc. 2016-14217 Filed 6-15-16; 8:45 am]

BILLING CODE 6717-01-P